SECURITIES AND EXCHANGE COMMISSION

Issuer Delisting: Notice of Application to Withdrawal From Listing and Registration on the American Stock Exchange LLC (DRS Technologies, Inc., Common Stock, par Value $.01 per Share) File No. 1-8533

April 12, 2002.

DRS Technologies, Inc. (“Issuer”), a Delaware corporation, has filed an application with the Securities and Exchange Commission (“Commission”), pursuant to section 12(d) of the Securities Exchange Act of 1934 (“Act”)¹ and Rule 12d2-2(d) thereunder,² to withdraw its Common Stock, par value $.01 per share (“Security”), from listing and registration on the American Stock Exchange LLC (“Amex” or “Exchange”).

¹ 15 U.S.C. 78l(d).

² 17 CFR 240.12d2-2(d).

The Issuer stated in its application that it has met the requirements of Amex Rule l8 by complying with all applicable laws in effect in the State of Delaware, in which it is incorporated, and with the Amex's rules governing an issuer's voluntary withdrawal of a security from listing and registration.

On February 20, 2002, the Board of Directors (“Board”) of the Issuer adopted resolutions to terminate the listing of its Security on the Amex and to list its Security on the New York Stock Exchange, Inc. (“NYSE”), effective April 30, 2002. The Issuer stated that the Board took such action in order to avoid the direct and indirect cost and the division of the market resulting from dual listing on the Amex and NYSE.

The Issuer's application relates solely to the withdrawal of the Security from listing and registration on the Amex and shall have no effect upon the Security's continued listing and registration on the NYSE under section 12(b) of the Act.³

³ 15 U.S.C. 781(b).

Any interested person may, on or before May 2, 2002, submit by letter to the Secretary of the Securities and Exchange Commission, 450 Fifth Street, NW., Washington, DC 20549-0609, facts bearing upon whether the application has been made in accordance with the rules of the NYSE and what terms, if any, should be imposed by the Commission for the protection of investors. The Commission, based on the information submitted to it, will issue an order granting the application after the date mentioned above, unless the Commission determines to order a hearing on the matter.

For the Commission, by the Division of Market Regulation, pursuant to delegated authority.⁴
⁴ 17 CFR 200.30-3(a)(1).
Jonathan G. Katz,
Secretary.

[FR Doc. 02-9478 Filed 4-17-02; 8:45 am]

BILLING CODE 8010-01-P